DEPARTMENT OF VETERANS AFFAIRS

[OMB Control No. 2900-0000]

Agency Information Collection Activity: Veteran Employment Through Technology Education Courses (VET TEC) Employment Verification Form

AGENCY: Veterans Benefits Administration, Department of Veterans Affairs

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before June 3, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-XXXX” in any correspondence.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: P.L. 115-48, section 116; 44 U.S.C. 3501-21.

Title: Veteran Employment Through Technology Education Courses (VET TEC) Employment Verification Form: (VA Form 22-10201).

OMB Control Number: 2900-0000.

Type of Review: New collection.

Abstract: VA Form 22-10201 will allow student veterans and SCOs to certify that a student veteran has obtained meaningful employment with the skills acquired during their training program funded by the VET TEC program. The form will exist solely online and will be accessible via the Vets.gov website.

Affected Public: Individuals and households.

Estimated Annual Burden: 46,875 hours.

Estimated Average Burden per Respondent: 5 minutes.

Frequency of Response: One time.

Estimated Number of Respondents: 562,000.

By direction of the Secretary.
Danny S. Green,
VA Interim Clearance Officer, Office of Quality, Performance and Risk, Department of Veterans Affairs.

[FR Doc. 2019-06322 Filed 4-1-19; 8:45 am]

BILLING CODE 8320-01-P